DEPARTMENT OF LABOR

Employment and Training Administration

Amended Certification Regarding Eligibility To Apply for Worker Adjustment Assistance

TA-W-83,309

Southern California Edison, A Subsidiary Of Edison International, It Department, Including On-Site Leased Workers From Infosys, IGATE/PATNI, Cognizant, Info Tech, Collabera, Deloitte, IBM, IJUS LLC, Anand Pag, Incremental Sysems Corporation And @Business, Inc., Irwindale, California

TA-W-83,309A

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., Rosemead, California

TA-W-83,309B

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., Irvine, California

TA-W-83,309C

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., Alhambra, California

TA-W-83,309D

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., Rancho Cucamonga, California

TA-W-83,309E

Southern California Edison, A Subsidiary Of Edison International, IT DEPARTMENT, Including On-Site Leased Workers From INFOSYS, IGATE/PATNI, Cognizant, Info Tech, Collabera, Deloitte, IBM, IJUS LLC, ANAND PAG, Incremental Sysems Corporation And @Business, Inc., Fullerton, California

TA-W-83,309F

Southern California Edison, A Subsidiary Of Edison International, IT Department, Including On-Site Leased Workers From INFOSYS, IGATE/PATNI, Cognizant, Info Tech, Collabera, Deloitte, IBM, IJUS LLC, ANAND PAG, Incremental Sysems Corporation And @Business, INC., San Clemente, California

TA-W-83,309G

Southern California Edison, A Subsidiary Of Edison International, IT Department, Including On-Site Leased Workers From INFOSYS, IGATE/PATNI, Cognizant, Info Tech, Collabera, Deloitte, Ibm, Ijus Llc, Anand Pag, Incremental Sysems Corporation And @Business, INC., Pomona, California

TA-W-83,309H

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., La Palma, California

TA-W-83,309I

Southern California Edison, A Subsidiary Of Edison International, IT Department, Including On-Site Leased Workers From INFOSYS, IGATE/PATNI, Cognizant, Info Tech, Collabera, Deloitte, IBM, IJUS LLC, ANAND PAG, Incremental Sysems Corporation And @Business, Inc., Westminster, California

In accordance with Section 223 of the Trade Act of 1974, as amended (“Act”), 19 U.S.C. § 2273, the Department of Labor issued a Certification of Eligibility to Apply for Worker Adjustment Assistance on May 2, 2014, applicable to workers of Southern California Edison, a subsidiary of Edison International, IT Department, Irwindale, California (TA-W-83,309), Southern California Edison, a subsidiary of Edison International, IT Department, at the locations identified above. The Department's Notice of Determination was published in the Federal Register on May 21, 2014 (Volume 79 FR 29214).

At the request of a company official of @Business, Inc., the Department reviewed the certification for workers of the subject firm. The workers were engaged in activities related to the supply of information technology services.

The company reports that workers leased from @Business, Inc. were employed on-site at Southern California Edison, a subsidiary of Edison International, IT Department, Irwindale, California (TA-W-83,309), Rosemead, California (TA-W-83,309A), Irvine, California (TA-W-83,309B), Alhambra, California (TA-W-83,309C), Rancho Cucamonga, California (TA-W-83,309D), Fullerton, California (TA-W-83,309E), San Clemente, California (TA-W-83,309F), Pomona, California (TA-W-83,309G), La Palma, California (TA-W-83,309H), and Westminster, California (TA-W-83,309I). The Department has determined that these workers were sufficiently under the control of the subject firm to be considered leased workers.

Based on these findings, the Department is amending this certification to include leased workers from @Business, Inc. working on-site at Southern California Edison, a subsidiary of Edison International, IT Department, Irwindale, California (TA-W-83,309), Rosemead, California (TA-W-83,309A), Irvine, California (TA-W-83,309B), Alhambra, California (TA-W-83,309C), Rancho Cucamonga, California (TA-W-83,309D), Fullerton, California (TA-W-83,309E), San Clemente, California (TA-W-83,309F), Pomona, California (TA-W-83,309G), La Palma, California (TA-W-83,309H), and Westminster, California (TA-W-83,309I).

The amended notice applicable to TA-W-83,309 is hereby issued as follows:

“All workers of Southern California Edison, a subsidiary of Edison International, IT Department, including on-site leased workers from Infosys, iGate/Patni, Cognizant, Info Tech, Collabera, Deloitte, IBM, IJUS LLC, Anand Pag, Incremental Systems Corporation, and @Business, Inc., Irwindale, California (TA-W-83,309), Rosemead, California (TA-W-83,309A), Irvine, California (TA-W-83,309B), Alhambra, California (TA-W-83,309C), Rancho Cucamonga, California (TA-W-83,309D), Fullerton, California (TA-W-83,309E), San Clemente, California (TA-W-83,309F), Pomona, California (TA-W-83,309G), La Palma, California (TA-W-83,309H), Westminster, California (TA-W-83,309I), Norwalk, California (TA-W-83,309K), San Dimas, California (TA-W-83,309K), Compton, California (TA-W-83,309L), Rialto, California (TA-W-83,309M), Fontana, California (TA-W-83,309N), Long Beach, California (TA-W-83,309O), Ontario, California (TA-W-83,309P), Thousand Oaks, California (TA-W-83,309Q), Big Creek, California (TA-W-83,309R), Bishop, California (TA-W-83,309S), Hesperia, California (TA-W-83,309T), Bakersfield, California (TA-W-83,309U), Romoland, California (TA-W-83,309V), Cathedral City, California (TA-W-83,309W), Santa Clarita, California (TA-W-83,309X), Tulare, California (TA-W-83,309Y), Ventura, California (TA-W-83,309Z), Victorville, California (TA-W-83,309AA), and Boulder City, Nevada (TA-W-83,309BB), who became totally or partially separated from employment on or after December 18, 2012 through May 2, 2016, and all workers in the group threatened with total or partial separation from employment on date of certification through two years from the date of certification, are eligible to apply for adjustment assistance under Chapter 2 of Title II of the Trade Act of 1974, as amended.”

Signed in Washington, DC this 28th day of April, 2015.
Michael W. Jaffe,
Certifying Officer, Office of Trade Adjustment Assistance.

[FR Doc. 2015-12050 Filed 5-18-15; 8:45 am]

BILLING CODE 4510-FN-P